COMMITTEE FOR PURCHASE FROM PEOPLE WHO ARE BLIND OR SEVERELY DISABLED

Notice of Availability; Correction

AGENCY: Committee for Purchase From People Who Are Blind or Severely Disabled.

ACTION: Notice of correction.

SUMMARY: The Committee for Purchase From People Who Are Blind or Severely Disabled published a document in the Federal Register of February 28, 2020, concerning a new guidance portal. The document contained certain links and citations that have been updated here.

DATES: The updated links and citations are effective immediately.

ADDRESSES: https://abilityone.gov/guidance.

FOR FURTHER INFORMATION CONTACT: Brian Hoey, 703.603.2114, guidanceportal@abilityone.gov.

SUPPLEMENTARY INFORMATION: The Committee for Purchase From People Who Are Blind or Severely Disabled published a document in the Federal Register of February 28, 2020, 85 FR 11971, concerning a new guidance portal. The document contained certain links and citations that have been updated. The corrected notice is as follows:

Section 3 of Executive Order 13891 requires each federal agency to “establish or maintain on its website a single, searchable, indexed database that contains or links to all guidance documents in effect from such agency or component.” 84 FR 55235 (Oct. 15, 2019).

OMB Memorandum M-20-02 further requires agencies to “send to the Federal Register a notice announcing the existence of the new guidance portal and explaining that all guidance documents remaining in effect are contained on the new guidance portal.” OMB Memorandum M-20-02, Guidance Implementing Executive Order 13891, titled “Promoting the Rule of Law Through Improved Agency Guidance Documents” (Oct. 31, 2019).

In compliance with the above, the Commission is announcing the availability of a single, searchable, indexed database containing all Commission guidance documents currently in effect, which may be accessed at https://abilityone.gov/guidance on or after February 28, 2020.

(Authority: Executive Order 13891; OMB Memorandum M-20-02.)

Michael R. Jurkowski,
Deputy Director, Business & PL Operations.

[FR Doc. 2020-05202 Filed 3-12-20; 8:45 am]

BILLING CODE 6353-01-P